GENERAL SERVICES ADMINISTRATION

[Notice-PBS-2025-05; Docket No. 2025-0002; Sequence No. 9]

Notice of Availability of the Record of Decision on the Final Environmental Impact Statement for a New Federal Courthouse in Hartford, Connecticut

AGENCY: New England Region, Public Buildings Service (PBS), U.S. General Services Administration (GSA).

ACTION: Notice of availability (NOA).

SUMMARY: This notice announces the availability of a Record of Decision (ROD) on the Final Environmental Impact Statement (EIS) for the Construction of a New Federal Courthouse in Hartford, Connecticut on June 20, 2025. The ROD was prepared in accordance with the National Environmental Policy Act (NEPA) of 1969 and the GSA PBS NEPA Desk Guide.

DATES: Applicable: Friday June 20, 2025.

ADDRESSES: The ROD may be found online at the following website: www.gsa.gov/hartfordcourthouse.

FOR FURTHER INFORMATION CONTACT: Joseph Mulligan, GSA Project Manager, by telephone at 312-505-5426 or by email at HartfordCourthouse@gsa.gov.

SUPPLEMENTARY INFORMATION:

Background

The Abraham A. Ribicoff Federal Building and Courthouse (or Ribicoff Federal Building and Courthouse) in Hartford, Connecticut, constructed in 1963, does not have the capacity to accommodate the functions and operations of the U.S. District Court for the District of Connecticut (the Court). The facility's size and configuration are inadequate for the Court's existing operations, including deficiencies in judicial, juror, and detainee circulation and overall facility security. The Court currently operates at three facilities: the Richard C. Lee U.S. Courthouse in New Haven (its headquarters location), the Brien McMahon Federal Building and U.S. Courthouse in Bridgeport, and the Ribicoff Federal Building and Courthouse.

To address these issues, GSA is proposing to locate the Court and related agencies at a new courthouse in Hartford (the Project). The purpose of the Project is to meet the current and long-term needs of the Court and related agencies by providing an adequate number of courtrooms, judges' chambers, and administrative office space in Hartford, and to ensure efficient judicial operations across the state. The Project is needed because the Ribicoff Federal Building and Courthouse does not have the capacity to accommodate the Court's functions and operations.

On May 26, 2023, GSA published a Notice of Intent for the EIS, subject to a 42-day scoping period. On November 1, 2024, GSA issued a Draft EIS, subject to a 46-day public comment period. Comments received, along with GSA's responses, during the Final EIS 30-day Wait Period, which ended on June 9, 2025, are provided in Attachments 1 and 2 of the ROD.

Preferred Alternative

As noted in the ROD, GSA has chosen to implement Alternative 2, Allyn Site, as the Preferred Alternative. This decision is based on the Final EIS issued on May 9, 2025; associated technical reports; comments from federal and state agencies, stakeholders, members of the public, and elected officials; and other resources contained in the administrative record.

Under Alternative 2, GSA will acquire the Allyn Site (2.19 acres comprising 10 tax parcels), located at 154 Allyn Street, and construct a federal courthouse with the following key features: (a) up to 281,000 total building gross square footage; (b) 11 courtrooms and 18 judges' chambers; (c) offices for the Court and related agencies; and (d) 66 secure parking spaces.

The Allyn Site is currently a surface parking lot with gates. Under Alternative 2, a new courthouse, containing up to two levels of underground secure parking, will be constructed on the Allyn Site. The automatic gates for entry/exit of vehicles and the paved asphalt parking will be removed prior to construction. The majority of the Allyn Site will be excavated and graded in preparation for construction, while approximately 0.25 acres may be used for staging. GSA may lease a vacant paved area near the Allyn Site for staging purposes due to the limited space available at the site. The Project will generate approximately 50,000 to 75,000 cubic yards of excavated materials. A new landscape plan will be developed using native plantings. There appears to be adequate public parking in proximity to the Allyn Site; however, GSA may pursue options to provide additional parking, such as entering into a lease with a commercial parking operator.

The design of the new courthouse is anticipated to begin in mid-2026, and the 3-year construction period is likely to commence in 2027. The new courthouse is expected to be completed and fully occupied by 2030. The exact sequence and timeline of construction activities (e.g., site preparation, excavation, etc.) will be determined during design.

GSA intends to implement and comply with all mitigation measures and best management practices as detailed in the ROD.

Further information about the project can be viewed at: http://gsa.gov/hartfordcourthouse.

Jesse Lafreniere,
Director, Design and Construction Division, U.S. General Services Administration, PBS New England Region.

[FR Doc. 2025-11337 Filed 6-18-25; 8:45 am]

BILLING CODE 6820-RB-P